DEPARTMENT OF HEALTH AND HUMAN SERVICES

Administration for Community Living

Announcing the Intent To Award a Single-Source Supplement for the National Center for Benefits Outreach and Enrollment (NCBOE)

AGENCY: Administration for Community Living, HHS.

SUMMARY: The Administration for Community Living (ACL) announces the intent to award a single-source supplement to the current cooperative agreement held by the National Council on Aging (NCOA) for the National Center for Benefits Outreach and Enrollment (NCBOE). The purpose of the NCBOE is to provide technical assistance to states, Area Agencies on Aging, Aging and Disability Resource Centers and community-based organizations who conduct outreach and low-income benefits enrollment assistance, particularly to older individuals with greatest economic need for federal and state programs. The administrative supplement for FY 2024 will be for $3,207,650, bringing the total award for FY 2024 to $14,707,650.

FOR FURTHER INFORMATION CONTACT: For further information or comments regarding this program supplement, contact Margaret Flowers, U.S. Department of Health and Human Services, Administration for Community Living, Center for Innovation and Partnership, Office of Healthcare Information and Counseling; telephone (202) 795-7315; email Margaret.flowers@acl.hhs.gov.

SUPPLEMENTARY INFORMATION: This supplemental funding will expand the NCBOE's outreach and education efforts targeting older adults with the greatest economic need, especially people from underserved communities. The NCBOE will build on current efforts to reach and assist beneficiaries, including expanding the work of the Benefits Enrollment Centers, making enhancements to the benefits eligibility and screening tool, and expanding the capacity of the benefits call center. With this supplemental funding, the NCBOE will focus on retirement security, Medicaid and Medicare integration, and streamlining benefits access.

The NCBOE will expand the pilot work on retirement security for older adults with low and moderate incomes. This may include but is not limited to activities such as developing materials, providing technical assistance and training, and conducting and evaluating a pilot with select community-based organizations. The NCBOE should collaborate with ACL to coordinate planned and emerging efforts to help older adults with low and moderate incomes with retirement planning.

The NCBOE should also build on the work done to date to educate individuals who are dually eligible by maintaining the My Care, My Choice decision support tool. The NCBOE should develop plans to support the usage of the tool such as counselor training or piloting with local community based organizations. Additionally, the NCBOE should build leadership among state grantees to educate state Medicaid agencies on Medicare to improve the experience of people who are dually eligible for Medicaid and Medicare.

Additionally, the NCBOE should build on work done to date to explore the approaches to streamlining benefits applications in coordination with federal and state government efforts to modernize access to public benefits. This could include research into the consumer experience and/or convening key stakeholders to discuss opportunities and challenges.

The NCBOE will continue, expand, and complete the work they are currently undertaking with the NCBOE award without disrupting services.

Program Name: The National Center for Benefits Outreach and Enrollment (NCBOE).

Recipient: National Council on Aging (NCOA).

Period of Performance: The award will be issued for the current project period of September 1, 2024 through August 31, 2025.

Total Award Amount: $14,707,650 in FY 2024.

Award Type: Cooperative Agreement Supplement.

Statutory Authority: The statutory authority is contained in the 2006 Reauthorization of the Older Americans Act and the Medicare Improvements for Patients and Providers Act of 2008, as amended by the Patient Protection and Affordable Care Act of 2010 and most recently reauthorized by the Consolidated Appropriations Act of 2024.

Basis for Award: The National Council on Aging (NCOA) is currently funded to carry out the NCBOE Project for the period of September 1, 2020 through August 31, 2025. Much work has already been completed and further tasks are currently being accomplished. It would be unnecessarily time-consuming and disruptive to the NCBOE project, and the beneficiaries being served for ACL to establish a new grantee at this time when critical services are presently being provided in an efficient manner.

NCOA is uniquely placed to complete the work under the NCBOE grant. Since 2001, NCOA has been the national leader in improving benefits access to vulnerable older adults. They have an unparalleled history of working with community-based organizations to develop and replicate outreach and enrollment solutions while maintaining and enhancing technology to make it easier and more efficient to find benefits. NCOA through NCBOE accomplishes its mission by developing and sharing tools, resources, best practices, and strategies for benefits outreach and enrollment via its online clearinghouse, electronic and print publications, webinars, and training and technical assistance.

In addition, NCOA has BenefitsCheckUp which is, by far, the nation's most comprehensive and widely-used web-based service that screens older and disabled adults with limited incomes and resources and informs them about public and private benefits for which they are very likely to be eligible. BenefitsCheckUp includes more than 2,500 benefits programs from all 50 states and DC, including over 50,000 local offices for people to apply for benefits; and more than 1,500 application forms in every language in which they are available. NCOA is successfully meeting all programmatic goals under the current NCBOE grant.

Dated: August 1, 2024.
Alison Barkoff,
Principal Deputy Administrator for the Administration for Community Living, performing the delegable duties of the Administrator and the Assistant Secretary for Aging.

[FR Doc. 2024-17321 Filed 8-5-24; 8:45 am]

BILLING CODE 4154-01-P